NUCLEAR REGULATORY COMMISSION

10 CFR Part 73

[Docket No. PRM-73-11]

Three Mile Island Alert; Receipt of Petition for Rulemaking

AGENCY: Nuclear Regulatory Commission.

ACTION: Petition for rulemaking; notice of receipt.

SUMMARY: The Nuclear Regulatory Commission (NRC) has received and requests public comment on a petition for rulemaking filed by the Three Mile Island Alert. The petition has been docketed by the NRC and has been assigned Docket No. PRM-73-11. The petitioner is requesting that the NRC regulations governing physical protection of plants and materials be amended to require NRC licensees to post at least one armed guard at each entrance to the “owner controlled areas” (OCAs) surrounding all U.S. nuclear power plants. The petitioner states that this should be accomplished by adding armed site protection officers (SPOs) to the security forces—not by simply moving SPOs from their protected area (PA) posts to the OCA entrances. The petitioner believes that its proposed amendment would provide an additional layer of security that would complement existing measures against radiological sabotage and would be consistent with the long-standing principle of defense-in-depth.

DATES: Submit comments by January 16, 2002. Comments received after this date will be considered if it is practical to do so, but assurance of consideration cannot be given except as to comments received on or before this date.

ADDRESSES: Submit comments to: Secretary, U.S. Nuclear Regulatory Commission, Washington, DC 20555. Attention: Rulemakings and Adjudications staff.

Deliver comments to 11555 Rockville Pike, Rockville, Maryland, between 7:30 am and 4:15 pm on Federal workdays.

You may also provide comments via the NRC's interactive rulemaking website through the NRC home page (http://ruleforum.llnl.gov). At this site, you may view the petition for rulemaking, this Federal Register notice of receipt, and any comments received by the NRC in response to this notice of receipt. Additionally, you may upload comments as files (any format), if your web browser supports that function. For information about the interactive rulemaking website, contact Ms. Carol Gallagher, (301) 415-5905 (e-mail: CAG@nrc.gov).

Documents related to this action are available for public inspection at the NRC Public Document Room (PDR) located at 11555 Rockville Pike, Rockville, Maryland.

Documents created or received at the NRC after November 1, 1999 are also available electronically at the NRC's Public electronic Reading Room on the Internet at http://www.nrc.gov/NRC/ADAMS/indes.html. From this site, the public can gain entry into the NRC's Agencywide Documents Access and Management System (ADAMS), which provides text and image files of NRC's public documents. If you do not have access to ADAMS or if there are problems in accessing the documents located in ADAMS, contact the NRC PDR Reference staff at 1-800-397-4209, 301-415-4737 or by e-mail to pdr@nrc.gov.

For a copy of the petition, write to Michael T. Lesar, Chief, Rules and Directives Branch, Division of Administrative Services, Office of Administration, U.S. Nuclear Regulatory Commission, Washington, DC 20555-0001.

FOR FURTHER INFORMATION CONTACT: Michael T. Lesar, Office of Administration, U.S. Nuclear Regulatory Commission, Washington, DC 20555. Telephone: 301-415-7163 or Toll-Free: 1-800-368-5642 or E-mail: mtl@nrc.Gov.

SUPPLEMENTARY INFORMATION:

Background

The Nuclear Regulatory Commission's regulations require that licensees establish protected areas (PAs) surrounding nuclear power plants, with strict access control at the PA boundaries including armed guards, entry barriers, vehicle barriers, intrusion detectors, personnel screening and vehicle screening. However, they do not require posting armed guards farther out, at the boundaries of the owner controlled areas (OCAs). The NRC has now received a petition for rulemaking dated September 12, 2001, submitted by the Three Mile Island Alert (petitioner) requesting that the regulations at 10 CFR 73.55 be amended to require licensees to post at least one armed guard at each entrance to the OCAs surrounding all nuclear power plants in the U.S.

The NRC has determined that the petition meets the threshold sufficiency requirements for a petition for rulemaking under 10 CFR 2.802. The petition has been docketed as PRM-73-11. The NRC is soliciting public comment on the petition for rulemaking. As a result of the attacks on the World Trade Center and the Pentagon on September 11, 2001, the NRC is conducting a comprehensive reexamination of its security requirements including the issues raised in this petition.

Discussion of the Petition

The petitioner believes that armed guards are needed at OCA entrances to serve as a physical and visual deterrent against potential violent actions. However, the petitioner cautions that additional site protection officers (SPOs) are needed and that licensees should not merely move SPOs from PA posts. The petitioner notes that 10 CFR 73.55, “Requirements for physical protection of licensed activities in nuclear power reactors against radiological sabotage” does not require armed guards at OCA entrances in current security plans. The petitioner states that adding an armed guard at each entrance to the OCA at nuclear power plants would be consistent with defense-in-depth safety principles that have been in place for many years.

The petitioner has concluded that the additional layer of security would complement existing measures against radiological sabotage and would be relatively inexpensive. The petitioner contends that the NRC could not inform the public and Congress that every reasonable precaution had been taken after an attack on a nuclear power facility occurs if the NRC fails to implement this proposed amendment.

The petitioner believes that security should be a clear and visible presence at the OCA entrances, especially since, according to the petitioner, the NRC considers nuclear power plants as “hardened targets.” The petitioner states that if terrorists perform reconnaissance missions at a nuclear power plant, the first thing they would see is that the OCA entrance is open and unguarded. The petitioner believes that the deterrent value of armed guards at the OCA entrances must not be downplayed.

The petitioner is concerned by how the NRC has determined what is “adequate” security and how the points of the “Design Basis Threat” are specified. The petitioner believes the NRC is reluctant to admit that terrorists might consider nuclear power plants as attractive targets. The petitioner states that nearly half of U.S. nuclear power plants have failed to demonstrate that they can defend against a terrorist attack during force-on-force security tests. The petitioner states that terrorists now take actions that are designed to kill large numbers of people instead of attempting to only instill fear or gain attention as in the past. According to the petitioner, revenge for the destruction of nuclear facilities in terrorists' home countries (e.g. Iraq) may be a motive for an attack in the U.S. The petitioner also states that a terrorist attack could destroy land and property that would be useless for many years and become a monument to terrorist activities. For these reasons, the petitioner has concluded that nuclear power plants are attractive targets to terrorists, that requiring guards at OCA entrances will create a visual deterrent against attacks, and that unguarded OCA entrances encourage attackers.

The petitioner believes that the NRC is not protecting against a large “Design Basis Bomb.” That is, the petitioner is concerned that a large enough vehicle bomb driven to the PA boundary and detonated might be able to damage vital equipment. The petitioner states that the FBI has determined that a large conventional bomb is still the weapon of choice for terrorists.

The petitioner believes that the ideal solution is for armed guards to control vehicle access at the OCA entrances and not allow access to the Protected Area without proper security checks. The petitioner contends that the presence of armed guards at the OCA entrance would have prevented the 1993 intrusion at Three Mile Island (TMI). The petitioner also contends that the NRC cannot state it has kept current with terrorist activities and capabilities and that unguarded OCA entrances create the impression that these facilities are soft targets. The petitioner cites a 2000 report by the U.S. Commission on National Security that has recommended an immediate reexamination of security practices because America is less secure than perceived.

The petitioner believes there are lessons to be learned from the 1996 Kobar Towers bombings after the U.S. Air Force was repeatedly assured by Saudi security officers that an expansion of the security perimeter was not necessary and determined that the jersey barrier placement provided reasonable protection proportional to any received threat. The petitioner recommends that the NRC read the report on this bombing to avoid security pitfalls and delays the U.S. Air Force experienced.

The petitioner is troubled by threats associated with the 1993 World Trade Center terrorists, citing articles from the New York Times, Universal Press International, and the Harrisburg, Pennsylvania, Patriot News. The petitioner states that many licensees have reduced the size of their guard force during the past few years, reducing the level of protection provided.

The Petitioner's Conclusions

The petitioner has concluded that the NRC requirements in 10 CFR part 73 should be amended to require an armed guard to be posted at all entrances to the OCAs surrounding all U.S. nuclear power plants. The petitioner requests that the regulations at 10 CFR part 73 be amended as detailed in its petition for rulemaking.

Dated at Rockville, Maryland, this 29th day of October, 2001.
For the Nuclear Regulatory Commission.
Annette Vietti-Cook,
Secretary of the Commission.

[FR Doc. 01-27576 Filed 11-1-01; 8:45 am]

BILLING CODE 7590-01-P